DEPARTMENT OF AGRICULTURE

Animal and Plant Health Inspection Service

9 CFR Parts 1 and 2

[Docket No. 97-121-2]

Animal Welfare; Inspection, Licensing, and Procurement of Animals

AGENCY: Animal and Plant Health Inspection Service, USDA.

ACTION: Notice of reopening and extension of comment period.

SUMMARY: We are reopening and extending the comment period for our proposal to amend the Animal Welfare regulations by revising and clarifying the exemptions from the licensing requirements, the procedures for license applications and renewals, and restrictions upon the acquisition of dogs and cats and other animals. This action will allow interested persons additional time to prepare and submit comments.

DATES: We invite you to comment on Docket No. 97-121-1. We will consider all comments that we receive by November 20, 2000.

ADDRESSES: Please send your comment and three copies to:

Docket No. 97-121-1, Regulatory Analysis and Development, PPD, APHIS, Suite 3C03, 4700 River Road, Unit 118, Riverdale, MD 20737-1238. Please state that your comment refers to Docket No. 97-121-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Barbara Kohn, Staff Veterinarian, AC, APHIS, 4700 River Road Unit 84, Riverdale, MD 20737-1234; (301) 734-7833.

SUPPLEMENTARY INFORMATION:

Background

On August 4, 2000, we published in the Federal Register (65 FR 47908-47918, Docket No. 97-121-1) a proposal to amend the Animal Welfare regulations by revising and clarifying the exemptions from the licensing requirements, the procedures for license applications and renewals, and restrictions upon the acquisition of dogs and cats and other animals.

Comments in response to our proposal were required to be received on or before October 3, 2000. In response to requests from the public, we are extending the comment period on Docket No. 97-121-1 for an additional 30 days. This action will allow interested persons additional time to prepare and submit comments.

Authority: 7 U.S.C. 2131-2159; 7 CFR 2.22, 2.80, and 371.7.

Done in Washington, DC, this 13th day of October 2000 .
William R. DeHaven,
Acting Administrator, Animal and Plant Health Inspection Service.

[FR Doc. 00-26900 Filed 10-18-00; 8:45 am]

BILLING CODE 3410-34-P